DEPARTMENT OF THE INTERIOR

Office of Surface Mining Reclamation and Enforcement

Notice of Proposed Information Collection for 30 CFR Parts 816 and 817

AGENCY: Office of Surface Mining Reclamation and Enforcement, Interior.

ACTION: Notice and request for comments.

SUMMARY: In compliance with the Paperwork Reduction Act of 1995, the Office of Surface Mining Reclamation and Enforcement (OSM) is announcing that the information collection request for the Permanent Program Performance Standards—Surface Mining Activities and Underground Mining Activities at 30 CFR Parts 816 and 817, has been forwarded to the Office of Management and Budget (OMB) for review and comment. The information collection request describes the nature of the information collection and the expected burden and cost.

DATES: OMB has up to 60 days to approve or disapprove the information collections but may respond after 30 days. Therefore, public comments should be submitted to OMB by February 12, 2004, in order to be assured of consideration.

FOR FURTHER INFORMATION CONTACT: To request a copy of the information collection request, explanatory information and related form, contact John A. Trelease at (202) 208-2783, or electronically to jtreleas@osmre.gov.

SUPPLEMENTARY INFORMATION: The OMB regulations at 5 CFR 1320, which implement provisions of the Paperwork Reduction Act of 1995 (Pub. L. 104-13), require that interested members of the public and affected agencies have an opportunity to comment on information collection and recordkeeping activities [see 5 CFR 1320.8(d)]. OSM has consolidated two information collections relating to coal mining performance standards, revised burden estimates, where appropriate, to reflect current reporting levels or adjustments based on reestimates of burden or respondents. OSM has submitted a request to OMB to renew its approval of the collection of information contained in: Permanent Program Performance Standards—Surface Mining Activities at 30 CFR 816, and Underground Mining Activities at 30 CFR 817. OSM is requesting a 3-year term of approval for the information collection activity.

An agency may not conduct or sponsor, and a person is not required to respond to, a collection of information unless it displays a currently valid OMB control number. The OMB control number for these collections of information are currently 1029-0047 for Part 816, and 1029-0048 for Part 817. Due to the consolidation of these parts in this collection request, OSM will request approval for both parts under 1029-0047.

As required under 5 CFR 1320.8(d), a Federal Register notice soliciting comments on this collection of information was published on October 7, 2003 (68 FR 57927). No comments were received. This notice provides the public with an additional 30 days in which to comment on the following information collection activity:

Title: Permanent Program Performance Standards—Surface and Underground Mining Activities, 30 CFR Parts 816 and 817.

OMB Control Number: 1029-0047.

Summary: Sections 515 and 516 of the Surface Mining Control and Reclamation Act of 1977 provides that permitees conducting coal mining operations shall meet all applicable performance standards of the Act. The information collected is used by the regulatory authority in monitoring and inspecting coal mining activities to ensure that they are conducted in compliance with the requirements of the Act.

Bureau Form Number: None.

Frequency of Collection: Once, on occasion, quarterly and annually.

Description of Respondents: Coal mining operators and State regulatory authorities.

Total Annual Responses: 186,341.

Total Annual Burden Hours: 870,333.

Total Nonwage Costs: $315,000.

Send comments on the need for the collection of information for the performance of the functions of the agency; the accuracy of the agency's burden estimates; ways to enhance the quality, utility and clarity of the information collection; and ways to minimize the information collection burdens on respondents, such as use of automated means of collections of the information, to the following addresses. Please refer to the appropriate OMB control number in all correspondence.

ADDRESSES: Please submit your comments via e-mail to the Office of Information and Regulatory Affairs, Office of Management and Budget, attention: Department of Interior Desk Officer, at OIRA_Docket@omb.eop.gov or via fax to (202) 395-6566. Also, please send a copy of your comments to John Trelease via e-mail to jtreleas@osmre.gov, or through the mail to John Trelease, Office of Surface Mining Reclamation and Enforcement, 1951 Constitution Ave, NW., Room 210-SIB, Washington, DC 20240.

Dated: December 9, 2003.
Sarah E. Donnelly,
Acting Chief, Division of Regulatory Support.

[FR Doc. 04-692 Filed 1-12-04; 8:45 am]

BILLING CODE 4310-05-M